DEPARTMENT OF ENERGY

Federal Energy Regulatory Commission

[Docket No. RD16-10-000]

Commission Information Collection Activities (FERC-725e); Comment Request; Revision

AGENCY: Federal Energy Regulatory Commission, Department of Energy.

ACTION: Notice of revised information collection and request for comments.

SUMMARY: In compliance with the requirements of the Paperwork Reduction Act the Federal Energy Regulatory Commission (Commission or FERC) is soliciting public comment on a revision to the information collection, FERC-725E (Mandatory Reliability Standards for the Western Electric Coordinating Council) which will be submitted to the Office of Management and Budget (OMB) for a review of the information collection requirements.

DATES: Comments on the collection of information are due June 5, 2017.

ADDRESSES: You may submit comments (identified by Docket No. RD16-10-000) by either of the following methods:

• eFiling at Commission's Web site: http://www.ferc.gov/docs-filing/efiling.asp

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Title: FERC-725E, Mandatory Reliability Standards for the Western Electric Coordinating Council.

OMB Control No.: 1902-0246.

Type of Request: Revision to the FERC-725E information collection requirements, as discussed in Docket No. RD16-10.

Abstract: On March 23, 2016 (and supplemented on November 16, 2016), the North American Electric Reliability Corporation (NERC) and Western Electricity Coordinating Council (WECC) filed a joint petition to retire regional Reliability Standard TOP-007-WECC-1a—System Operating Limits (“SOL”). The purpose of the proposed retirement is to shift away from the path-centric model and allow entities in the Western Interconnection to align their operating practices with the framework established in the continent-wide TOP/IRO Reliability Standards approved in Order No. 817,¹ which, according to NERC and WECC, achieve the objective of operating within acceptable pre- and post-contingency reliability criteria (i.e., within SOLs and Interconnection Reliability Operating Limits (“IROL”). On March 10, 2017, the Commission approved the retirement of regional Reliability Standard TOP-007-WECC-1a.²

¹ The burdens related to Order No. 871 are included in FERC-725Z (Mandatory Reliability Standards: IRO Reliability Standards, OMB Control No. 1902-0276), and FERC-725A Mandatory Reliability Standards for the Bulk-Power System, OMB Control No. 1902-0244).

² The Delegated Letter Order is posted in FERC's eLibrary at https://elibrary.ferc.gov/idmws/common/opennat.asp?fileID=14515285.

The remaining reporting requirements included in FERC-725E are not being revised.³

³ In the current OMB-approved inventory for FERC-725E, the total remaining requirements are estimated annually at 7,038 burden hours for reporting and 771 burden hours for recordkeeping.

Type of Respondents: Public utilities.

Estimate of Annual Burden ⁴: The Commission estimates the reduction in the annual public reporting burden for the FERC-725E (due to the retirement of regional Reliability Standard TOP-007-WECC-1a) as follows: ⁵

⁴ Burden is defined as the total time, effort, or financial resources expended by persons to generate, maintain, retain, or disclose or provide information to or for a Federal agency. For further explanation of what is included in the information collection burden, refer to 5 Code of Federal Regulations 1320.3.

⁵ The reductions in burden and cost shown in the table are the same figures as those in the current OMB-approved inventory for the reporting and recordkeeping requirements, now being retired.

FERC-725E, Mandatory Reliability Standards for the Western Electric Coordinating Council, Reductions Due to Docket No. RD16-10
Information collection requirements | Number of respondents | Annual number of responses per respondent | Total number of responses | Average burden hours & cost per response | Total annual burden hours & total annual cost
| (1) | (2) | (1) * (2) = (3) | (4) | (3) * (4) = (5)
Reporting Requirement—Transmission Operators that operate qualified transfer paths ⁶ | 9 | 3 | 27 | 40 hrs.; $2,908 | 1,080 hrs.; $78,516.
Recordkeeping Requirement—Transmission Operators that operate qualified transfer paths | 9 | 1 |  | 12 hrs.; $347 | 108 hrs.; $3,124.
TOTAL REDUCTION (Due to Docket No. RD16-10) |  |  |  |  | 1,188 hrs.; $81,640.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁶ This is based on burden estimates taken from the Order in Docket No. RR07-11-000, P. 130.

Dated: March 31, 2017.
Kimberly D. Bose,
Secretary.

[FR Doc. 2017-06847 Filed 4-5-17; 8:45 am]

BILLING CODE 6717-01-P